DEPARTMENT OF HOMELAND SECURITY

Bureau of Customs and Border Protection

Announcement of an Additional Public Open House for the Draft Environmental Impact Statement for Construction, Maintenance, and Operation of Tactical Infrastructure, U.S. Border Patrol, Rio Grande Valley Sector, TX

AGENCY: Customs and Border Protection, Department of Homeland Security.

ACTION: Notice of Additional Public Open House.

SUMMARY: This notice supplements information provided in the November 16, 2007, Federal Register Notice of Availability and Public Open House Announcement for the Draft Environmental Impact Statement (EIS) for the proposed construction, maintenance, and operation of tactical infrastructure along approximately 70 miles of the U.S./Mexico international border within the U.S. Border Patrol Rio Grande Valley Sector, Texas. In addition to the previously announced public open houses concerning the Draft EIS to be held on December 11, 2007 in McAllen, TX, and December 12, 2007, in Brownsville, TX, Customs and Border Protection (CBP) invites public participation at a third public open house to be held on December 13, 2007, at the Veterans of Foreign Wars (VFW) Post #08526 in Rio Grande City, TX.

DATES: CBP will hold three public open houses to provide information and invite comments on the proposed construction, maintenance and operation of the tactical infrastructure and the Draft EIS. The first public open house will be held on December 11, 2007, at the McAllen Convention Center in McAllen, TX. A second public open house will be held on December 12, 2007, at the Brownsville Events Center in Brownsville, TX. The third public open house will be held on December 13, 2007, at the VFW Post #08526 in Rio Grande City, TX. Each public open house will be held from 4:30 p.m. to 8 p.m. Please refer to the SUPPLEMENTARY INFORMATION section below for more information.

ADDRESSES: Copies of the Draft EIS can be downloaded by visiting http://www.BorderFenceNEPA.com, or https://ecso.swf.usace.army.mil/Pages/Publicreview.cfm, or requested by e-mailing: information@BorderFenceNEPA.com. To request a hard copy of the Draft EIS, you may call toll-free 1-877-752-0420. Alternatively, written requests for information may be submitted to: Charles McGregor, U.S. Army Corps of Engineers, Engineering and Construction Support Office, 819 Taylor St., Room 3B10, Fort Worth, Texas 76102; phone: (817) 886-1585; and fax: (757) 282-7697. Hard copies of the Draft EIS can be reviewed at the McAllen Memorial Library (601 N. Main St., McAllen, TX 78501, (956) 688-3300); Speer Memorial Library (801 E. 12th St., Mission, TX 78572, (956) 580-8750); Brownsville Public Library (2600 Central Blvd., Brownsville, TX 78520, (956) 548-1055); Rio Grande City Public Library (591 E. Canales St., Rio Grande City, TX 78582, (956) 487-4389); Weslaco Public Library (525 S. Kansas Ave., Weslaco, TX 78596, (956) 968-4533); Mercedes Memorial Library (434 S. Ohio Ave., Mercedes, TX 78570, (956) 565-2371); Harlingen Public Library (410 76 Dr., Harlingen, TX 78550, (956) 216-5802); and San Benito Public Library (101 W. Rose St., San Benito, TX 78586, (956) 361-3860).

FOR FURTHER INFORMATION CONTACT: Charles McGregor, U.S. Army Corps of Engineers, Engineering and Construction Support Office, 819 Taylor St., Room 3B10, Fort Worth, Texas 76102; phone: (817) 886-1585; and fax: (757) 282-7697.

SUPPLEMENTARY INFORMATION:

Background

On September 24, 2007, Customs and Border Protection (CBP) published a Notice of Intent to Prepare an EIS in the Federal Register (72 FR 54276) for the proposed construction, maintenance, and operation of a tactical infrastructure along approximately 70 miles of the U.S./Mexico international border within the U.S. Border Patrol Rio Grande Valley Sector, Texas. On November 16, 2007, CBP published a Notice of Availability of the Draft EIS and Public Open House Announcement in the Federal Register (72 FR 64663). Additional information on the Proposed Action can be found in the Notice of Availability or by visiting the Web site http://www.borderfencenepa.com.

Public Open Houses

In addition to the two public open houses previously announced in the Federal Register on November 16, 2007, members of the public who wish to provide information and comments on the Draft EIS may now also attend a third open house to be held in Rio Grande City, TX. The first public open house will be held on December 11, 2007, at the McAllen Convention Center in McAllen, TX , located at 700 Convention Center Blvd., McAllen, TX. A second public open house will be held on December 12, 2007, at the Brownsville Events Center in Brownsville, TX, located at 1 Event Ctr., Brownsville, TX. The third public open house will be held on December 13, 2007, at VFW Post #08526 in Rio Grande City, TX located at 5123 Veteran's Drive, Rio Grande City, TX. Each public open house will be held from 4:30 p.m. to 8 p.m. Central Standard Time.

Notifications of these open houses were also published in the Brownsville Herald, Valley Morning Star, The Monitor, La Frontera, and El Nuevo Heraldo.

Anyone wishing to submit comments may do so orally and/or in writing at the open houses. Comments received at the open houses will be recorded and transcribed into the public record for the meeting. Commentors must include their name and address. Spanish language translation will be provided. Those who plan to attend the public open house and will need special assistance such as sign language interpretation or other reasonable accommodations should notify the U.S. Army Corps of Engineers (see FOR FURTHER INFORMATION) at least 3 business days in advance. Include contact information, as well as information about specific needs. Those unable to attend may submit comments as described under “Request for Comments” below.

Request for Comments

CBP requests public participation in the EIS process. The public may participate by attending public open houses and submitting written comments on the Draft EIS. CBP will consider all comments submitted during the public comment period and subsequently will prepare the Final EIS. CBP will announce the availability of the Final EIS and once again give interested parties an opportunity to review the document.

When submitting comments, please include name and address, and identify comments as intended for the Rio Grande Valley Sector Draft EIS. To avoid duplication, please use only one of the following methods:

(a) Attendance and submission of comments at the public open houses to be held December 11, 2007 at the McAllen Convention Center in McAllen, TX; December 12, 2007 at the Brownsville Events Center in Brownsville, TX; and December 13, 2007 at the VFW Post #08526 in Rio Grande City, TX.

(b) Electronically through the Web site at http://www.BorderFenceNEPA.com.

(c) By e-mail to: RGVcomments@BorderFenceNEPA.com.

(d) By mail to: Rio Grande Valley Tactical Infrastructure EIS, c/o e²M, 2751 Prosperity Avenue, Suite 200, Fairfax, Virginia 22031.

(e) By fax to: (757) 282-7697.

Comments on the Draft EIS should be submitted by December 31, 2007.

Dated: December 5, 2007.
Eugene H. Schied,
Assistant Commissioner, Office of Finance, Customs and Border Protection.

[FR Doc. E7-23898 Filed 12-7-07; 8:45 am]

BILLING CODE 9111-14-P